DEPARTMENT OF STATE

[Public Notice: 12544]

Notice of Meeting; President's Advisory Council on African Diaspora Engagement

ACTION: Notice of Federal advisory committee meeting.

SUMMARY: The Department of State hereby provides notice of the next meeting of the President's Advisory Council on African Diaspora Engagement (“the Advisory Council”).

DATES: October 8, 2024.

ADDRESSES: This event will take place virtually. A link will be provided to those who RSVP (see below).

FOR FURTHER INFORMATION CONTACT: For additional information and for those interested in participating, please contact Mr. Matthew Becker, Senior Foreign Affairs Officer in the Office of the Assistant Secretary, Bureau of African Affairs, U.S. Department of State by email at BeckerMA@state.gov or by phone at (202) 647-1790.

SUPPLEMENTARY INFORMATION: Pursuant to the Federal Advisory Committee Act, 5 U.S.C. 1001 et seq., and 41 CFR 102-3.65, the Advisory Council will host a plenary session meeting. The primary mission of the Advisory Council is to provide counsel to the President on enhancing connections between the United States Government and the African diaspora within the United States, aligning with the objectives outlined in the U.S. Strategy Toward Sub-Saharan Africa.

In accordance with Executive Order 14089, the Advisory Council will host its third engagement of the year on October 8, 2024. Members of the Advisory Council will meet virtually to discuss progress made to date and next steps on Council recommendations to the President.

Meetings are open to the public. Interested members of the public may receive details on how to join the virtual meeting by contacting Designated Federal Officer Matthew Becker at BeckerMA@state.gov.

Established in accordance with Executive Order 14089, the Advisory Council operates under the overarching authority of the Secretary of State and the Department of State, as outlined in title 22 of the United States Code. Specifically, its mandate aligns with Section 2656 of that Title and adheres to the Federal Advisory Committee Act.

Authority: 5 U.S.C. 1001 et seq. and 22 U.S.C. 2651a.

Matthew A. Becker,
Senior Foreign Affairs Officer, Department of State.

[FR Doc. 2024-21437 Filed 9-18-24; 8:45 am]

BILLING CODE 4710-26-P